FEDERAL COMMUNICATIONS COMMISSION

47 CFR Part 73

[DA 02-614; MM Docket No. 00-79; RM-9802]

Radio Broadcasting Services; Jackson and Salyersville, KY

AGENCY: Federal Communications Commission.

ACTION: Final rule.

SUMMARY: The Commission, at the joint request of Intermountain Broadcasting Company and Wallingford Broadcasting Company, Inc., substitutes Channel 247C2 for Channel 293A at Jackson, Kentucky, and modifies Station WJSN-FM's license accordingly. To accommodate the upgrade, we also substitute Channel 293C3 for Channel 247C3 at Salyersville, Kentucky, and modify Station WRLV-FM's license accordingly. See 65 FR 34996, June 1, 2000. Channel 247C2 can be substituted at Jackson in compliance with the Commission's minimum distance separation requirements with a site restriction of 13.1 kilometers (8.2 miles) north at Station WJSN-FM's requested site. The coordinates for Channel 247C2 at Jackson are 37-40-19 North Latitude and 83-24-21 West Longitude. Additionally, Channel 293C3 can be substituted at Salyersville without the imposition of a site restriction at Station WRLV-FM's requested site. The coordinates for Channel 293C3 at Salyersville are 37-49-05 North Latitude and 83-17-01 West Longitude.

DATES: Effective April 29, 2002.

FOR FURTHER INFORMATION CONTACT: Sharon P. McDonald, Mass Media Bureau, (202) 418-2180.

SUPPLEMENTARY INFORMATION: This is a synopsis of the Commission's Report and Order, MM Docket No. 00-79, adopted March 6, 2002 , and released March 15, 2002. The full text of this Commission decision is available for inspection and copying during normal business hours in the FCC Reference Information Center (Room CY-A257), 445 12th Street, SW., Washington, DC. The complete text of this decision may also be purchased from the Commission's copy contractors, Qualex International, Portals II, 445 12th Street, SW., Room CY-B402, Washington, DC 20554.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Kentucky, is amended by removing Channel 293A and adding Channel 247C2 at Jackson; and by removing Channel 247C3 and adding Channel 293C3 at Salyersville.

Federal Communications Commission.
John A. Karousos,
Chief, Allocations Branch, Policy and Rules Division, Mass Media Bureau.

[FR Doc. 02-7974 Filed 4-2-02; 8:45 am]

BILLING CODE 6712-01-P